DEPARTMENT OF THE INTERIOR

Bureau of Land Management

[LLWO310000.L13100000.PP0000.15X]

Renewal of Approved Information Collection; OMB Control No. 1004-0162

AGENCY: Bureau of Land Management, Interior.

ACTION: 60-day notice and request for comments.

SUMMARY: In compliance with the Paperwork Reduction Act, the Bureau of Land Management (BLM) invites public comments on, and plans to request approval to continue, the collection of information pertaining to surface-disturbing activities associated with onshore oil and gas geophysical exploration within oil and gas leases, communitized areas, and unitized areas on Federal lands managed by the Bureau of Land Management (BLM) or the U.S. Forest Service (FS). The Office of Management and Budget (OMB) has assigned control number 1004-0162 to this information collection.

DATES: Please submit comments on the proposed information collection by February 23, 2015.

ADDRESSES: Comments may be submitted by mail, fax, or electronic mail.

Mail: U.S. Department of the Interior, Bureau of Land Management, 1849 C Street NW., Room 2134LM, Attention: Jean Sonneman, Washington, DC 20240.

Fax: to Jean Sonneman at 202-245-0050.

Electronic mail: Jean_Sonneman@blm.gov.

Please indicate “Attn: 1004-0162” regardless of the form of your comments.

FOR FURTHER INFORMATION CONTACT: Jennifer Spencer, at 202-912-7146. Persons who use a telecommunication device for the deaf may call the Federal Information Relay Service at 1-800-877-8339, to leave a message for Ms. Spencer.

SUPPLEMENTARY INFORMATION: OMB regulations at 5 CFR part 1320, which implement provisions of the Paperwork Reduction Act, 44 U.S.C. 3501-3521, require that interested members of the public and affected agencies be given an opportunity to comment on information collection and recordkeeping activities (see 5 CFR 1320.8(d) and 1320.12(a)). This notice identifies an information collection that the BLM plans to submit to OMB for approval. The Paperwork Reduction Act provides that an agency may not conduct or sponsor a collection of information unless it displays a currently valid OMB control number. Until OMB approves a collection of information, you are not obligated to respond.

The BLM will request a 3-year term of approval for this information collection activity. Comments are invited on: (1) The need for the collection of information for the performance of the functions of the agency; (2) The accuracy of the agency's burden estimates; (3) Ways to enhance the quality, utility and clarity of the information collection; and (4) Ways to minimize the information collection burden on respondents, such as use of automated means of collection of the information. A summary of the public comments will accompany our submission of the information collection requests to OMB.

Before including your address, phone number, email address, or other personal identifying information in your comment, you should be aware that your entire comment—including your personal identifying information—may be made publicly available at any time. While you can ask us in your comment to withhold your personal identifying information from public review, we cannot guarantee that we will be able to do so.

The following information pertains to this request:

Title: Onshore Oil and Gas Geophysical Exploration (43 CFR part 3150 and 36 CFR parts 228 and 251).

OMB Control Number: 1004-0162.

Summary: The BLM and the FS collect the information from those who wish to participate in the evaluation, development, and utilization of oil and gas resources. The BLM and FS need the information in order to manage surface operations that are under their respective jurisdictions.

Frequency of Collection: On occasion.

Forms:

• Notice of Intent and Authorization to Conduct Oil and Gas Geophysical Exploration Operations (BLM Form 3150-4/FS Form 2800-16); and

• Notice of Completion of Geophysical Exploration Operations (BLM 3150-5/FS 2800-16a).

Description of Respondents: Those who wish to participate in surface-disturbing evaluation, development, and utilization of oil and gas resources on Federal lands for mineral potential.

Estimated Annual Responses: 100.

Estimated Annual Burden Hours: 65.

Estimated Annual Non-Hour Costs: $25.

The estimated burdens are itemized in the following table:

A. Type of response | B. Number of responses | C. Time per response | D. Total hours (column B × column C)
Notice of Intent and Request to Conduct Geophysical Exploration Operations/Outside Alaska (43 CFR 3151.1) BLM Form 3150-4/FS Form 2800-16 | 45 (20 to BLM and 25 to FS) | 1 hour | 45
Notice of Intent and Request to Conduct Geophysical Exploration Operations/Alaska (43 CFR 3152.1, 3152.3, 3152.4, and 3152.5) BLM Form 3150-4 | 1 | 1 hour | 1
Notice of Completion of Geophysical Exploration Operations (43 CFR 3151.2 and 3152.7) BLM Form 3150-5/FS Form 2800-16a | 53 (28 to BLM and 25 to FS) | 20 minutes | 18
Data and Information Obtained in Carrying Out Exploration Plan (Alaska only) (43 CFR 3152.6) | 1 | 1 hour | 1
Totals | 100 |  | 65

Jean Sonneman,
Information Collection Clearance Officer, Bureau of Land Management.

[FR Doc. 2014-30171 Filed 12-23-14; 8:45 am]

BILLING CODE 4310-84-P